COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and services to be furnished by nonprofit agencies employing persons who are blind or have other severe disabilities.

DATES: Effective Date: 5/31/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 10/23/2009 (74 FR 54783-54784) and 3/5/2010 (75 FR 10223-10224), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Coast Guard Physical Fitness Uniform, Shirts X Small to XXX Large

NSN: 8465-00-NIB-0189—United States Coast Guard Tshirt, XSmall

NSN: 8465-00-NIB-0190—United States Coast Guard Tshirt, Small

NSN: 8465-00-NIB-0191—United States Coast Guard Tshirt, Medium

NSN: 8465-00-NIB-0192—United States Coast Guard Tshirt, Large

NSN: 8465-00-NIB-0193—United States Coast Guard Tshirt, XLarge

NSN: 8465-00-NIB-0194—United States Coast Guard Tshirt, XXLarge

NSN: 8465-00-NIB-0195—United States Coast Guard Tshirt, XXXLarge

NPA: The Arkansas Lighthouse for the Blind, Little Rock, AR

Coast Guard Physical Fitness Uniform, Trunks X Small to XXX Large

NSN: 8465-00-NIB-0196—United States Coast Guard Trunks XSmall

NSN: 8465-00-NIB-0197—United States Coast Guard Trunks Small

NSN: 8465-00-NIB-0198—United States Coast Guard Trunks Medium

NSN: 8465-00-NIB-0199—United States Coast Guard Trunks Large

NSN: 8465-00-NIB-0200—United States Coast Guard Trunks XLarge

NSN: 8465-00-NIB-0201—United States Coast Guard Trunks XXLarge

NSN: 8465-00-NIB-0202—United States Coast Guard Trunks XXXLarge

NPA: Assoc f/t Blind & Visually Impaired & Goodwill Ind. of Greater Rochester, Rochester, NY

Contracting Activity: DEPT OF HOMELAND SECURITY, U.S. COAST GUARD, WASHINGTON, DC

Coverage: C-List for 100% of the government requirements for the Department of Homeland Security, U.S. Coast Guard, Washington, DC.

Duster, Microfiber

NSN: 7920-00-NIB-0495—Mini Microfiber Duster

NSN: 7920-00-NIB-0496—Duster, Microfiber, Utility

NSN: 7920-00-NIB-0499—Replacement Sleeves for Microfiber Utility Duster

NPA: Industries for the Blind, Inc., West Allis, WI

Contracting Activity: FEDERAL ACQUISITION SERVICE, GSA/FAS SOUTHWEST SUPPLY CENTER (QSDAC), FORT WORTH, TX

Coverage: B-List for the broad government requirement as aggregated by the General Services Administration.

Safety Pins

NSN: 8315-00-787-7000—2.0″ with tapered points

NSN: 8315-00-787-8000—1.5″ with tapered points

NPA: Genesee County Chapter, NYSARC, Batavia, NY

Contracting Activity: FEDERAL ACQUISITION SERVICE, GSA/FAS SOUTHWEST SUPPLY CENTER (QSDAC), FORT WORTH, TX

Coverage: B-List for the broad government requirement as aggregated by the General Services Administration.

Services

Service Type/Location: Laundry Services, Alaska VA Healthcare System and Regional Office, Anchorage, AK

NPA: MQC Enterprises, Inc., Anchorage, AK

Contracting Activity: DEPARTMENT OF VETERANS AFFAIRS, NETWORK BUSINESS OFFICE (10N20VBO), VANCOUVER, WA

Service Type/Location: Landscape Maintenance, Veterans Affairs Northern California Healthcare System, 4951 Arroyo Road, Livermore, CA

NPA: Rubicon Programs, Inc., Richmond, CA

Contracting Activity: DEPARTMENT OF VETERANS AFFAIRS, VISN 21 CONSOLIDATED CONTRACTING ACTIVITY, MARE ISLAND, CA

Service Type/Location: Custodial and Grounds Maintenance Services, U.S. Courthouse, 525 Magoffin Ave., El Paso, TX

NPA: Training, Rehabilitation, & Development Institute, Inc., San Antonio, TX

Contracting Activity: GENERAL SERVICES ADMINISTRATION, PUBLIC BUILDINGS SERVICE, FORT WORTH, TX

Service Type/Location: Custodial Services, St. Louis Federal Complex, 4300 Goodfellow Boulevard, St Louis, MO

NPA: MGI Services Corporation, St. Louis, MO

Contracting Activity: GENERAL SERVICES ADMINISTRATION, PUBLIC BUILDINGS SERVICE, ST. LOUIS, MO

Service Type/Location: Mail Services, DFAS Retirement & Annuity Section (Cleveland, OH), AWRC, 2762 Rand Road, Indianapolis, IN

NPA: Anthony Wayne Rehabilitation Ctr for Handicapped and Blind, Inc., Fort Wayne, IN

Contracting Activity: DEFENSE FINANCE AND ACCOUNTING SERVICE (DFAS), CONTRACT SERVICES DIRECTORATE, COLUMBUS, OH

Barry S. Lineback,
Director, Business Operations.

[FR Doc. 2010-10120 Filed 4-29-10; 8:45 am]

BILLING CODE 6353-01-P